DEPARTMENT OF HEALTH AND HUMAN SERVICES

Centers for Disease Control and Prevention

National Center for Health Statistics (NCHS), ICD-10 Coordination and Maintenance (C&M) Committee Meeting

AGENCY: Centers for Disease Control and Prevention (CDC), Department of Health and Human Services (HHS).

ACTION: Notice of meeting.

SUMMARY: The CDC, National Center for Health Statistics (NCHS), Classifications and Public Health Data Standards Staff, announces the following meeting of the ICD-10 Coordination and Maintenance (C&M) Committee meeting. This meeting is open to the public, limited only by the space available. The meeting room accommodates approximately 240 people. We will be broadcasting the meeting live via Webcast at http://www.cms.gov/live/.

DATES: The meeting will be held on March 5, 2019, 9:00 a.m. to 5:00 p.m. EST and March 6, 2019, 9:00 a.m. to 5:00 p.m. EST.

ADDRESSES: Centers for Medicare and Medicaid Services (CMS) Auditorium, 7500 Security Boulevard, Baltimore, Maryland 21244.

FOR FURTHER INFORMATION CONTACT: Traci Ramirez, Program Specialist, CDC, 3311 Toledo Rd. Hyattsville, Maryland 20782 telephone (301) 458-4454; TRamirez@cdc.gov.

SUPPLEMENTARY INFORMATION: Purpose: The ICD-10 Coordination and Maintenance (C&M) Committee is a public forum for the presentation of proposed modifications to the International Classification of Diseases, Tenth Revision, Clinical Modification and ICD-10 Procedure Coding System.

Matters To Be Considered: The tentative agenda includes discussions on ICD-10-CM and ICD-10-PCS topics listed below. Agenda items are subject to change as priorities dictate.

Please refer to the posted agenda for updates one month prior to the meeting.

ICD-10-PCS Topics

Administration of caplacizumab

Administration of fosfomycin (CONTEPO®)

Administration of gilteritinib (XOSPATA®)

Administration of imipenem, cilastatin, relbactam (fixed dose combination) (IMI/REL)

Administration of imlifidase (Idefirix™)

Administration of iobenguane I 131 (AZEDRA®)

Administration of ruxolitinib (Jakafi®)

Administration of tagraxofusp; SL-401 (ELZONRIS™)

Administration of venetoclax (VENCLEXTA®)

Brachytherapy Device (CivaSheet®)

Cerebral Embolic Protection Device (CEPD) (TriGuard 3™)

Endovascular Arteriovenous Fistula (endoAVF) Creation with magnetic-Guided Radiofrequency Energy and Embolization

Extracorporeal Membrane Oxygenation (ECMO) (intraoperative ECMO) injectable_Implantable Allograft (FlōGraft®) (XWRAP®) (FlōGraft®Neogenesis)

Insertion of Sustained Release Drug-Eluting Stent (ELUVIA™) multiplex diagnostic panel (T2 Bacteria Test Panel)

Addenda and Key Updates

ICD-10-CM Topics

Babesiosis

Congenital Vascular Hematomas and Hemangiomas

Corneal Dystrophy

Juvenile Osteochondrosis of Tibia and Fibula

Macular Hole Expansion

Neonatal Cerebral Infarction

Osteopenia of Hip

Sjogren Syndrome

Social Determinants of Health

Unspecified Use of Alcohol or Cocaine with Withdrawal

ICD-10-CM Addendum

Security Considerations: Due to increased security requirements, CMS has instituted stringent procedures for entrance into the building by non-government employees. Attendees will need to present valid government-issued picture identification, and sign-in at the security desk upon entering the building.

Attendees who wish to attend the March 5-6, 2019, ICD-10-CM C&M meeting must submit their name and organization by February 22, 2019, for inclusion on the visitor list. This visitor list will be maintained at the front desk of the CMS building and used by security to admit visitors to the meeting.

To request reasonable accommodation, please contact the CMS Reasonable Accommodation Program at Email reasonableaccommodationprogram@cms.hhs.gov.

Participants who attended previous Coordination and Maintenance meetings will no longer be automatically added to the visitor list. You must request inclusion of your name prior to each meeting you wish attend.

Please register to attend the meeting on-line at: http://www.cms.hhs.gov/apps/events/.

Please contact Mady Hue (410) 786-4510 or Marilu.hue@cms.hhs.gov for questions about the registration process.

Note: CMS and NCHS no longer provide paper copies of handouts for the meeting. Electronic copies of all meeting materials will be posted on the CMS and NCHS websites prior to the meeting at http://www.cms.hhs.gov/ICD9ProviderDiagnosticCodes/03_meetings.asp#TopOfPage and https://www.cdc.gov/nchs/icd/icd10cm_maintenance.htm.

The Chief Operating Officer, Centers for Disease Control and Prevention, has been delegated the authority to sign Federal Register notices pertaining to announcements of meetings and other committee management activities, for both the Centers for Disease Control and Prevention, and the Agency for Toxic Substances and Disease Registry.

Sherri Berger,
Chief Operating Officer, Centers for Disease Control and Prevention.

[FR Doc. 2019-01213 Filed 2-5-19; 8:45 am]

BILLING CODE 4163-18-P